FEDERAL ELECTION COMMISSION

Sunshine Act Meeting

TIME AND DATE: Thursday, January 11, 2018 at 10:00 a.m.

PLACE: 999 E Street NW, Washington, DC (Ninth Floor)

STATUS: This meeting will be open to the public.

MATTERS TO BE CONSIDERED: REG 2014-02: Draft Notice of Proposed Rulemaking on Independent Expenditures by Authorized Committees; Reporting Multistate Independent Expenditures and Electioneering Communications

Management and Administrative Matters

* * * * *

CONTACT PERSON FOR MORE INFORMATION: Judith Ingram, Press Officer, Telephone: (202) 694-1220.

Individuals who plan to attend and require special assistance, such as sign language interpretation or other reasonable accommodations, should contact Dayna C. Brown, Secretary and Clerk, at (202)694-1040, at least 72 hours prior to the meeting date.

Laura E. Sinram,
Deputy Secretary of the Commission.

[FR Doc. 2018-00211 Filed 1-4-18; 4:15 pm]

BILLING CODE 6715-01-P